DEPARTMENT OF THE TREASURY

Alcohol and Tobacco Tax and Trade Bureau

27 CFR Parts 4, 5, 7, 14, and 19

[Docket No. TTB-2018-0007; Notice No. 176]

RIN 1513-AB54

Modernization of the Labeling and Advertising Regulations for Wine, Distilled Spirits, and Malt Beverages

Correction

In proposed rule 2018-24446 beginning on page 60562 in the issue of Monday, November 26, 2018, make the following corrections:

1. On page 60616, in the second column, section heading “§ 4.04.0 Scope.” should read “§ 4.0 Scope.”.

2. On the same page, in the same column, section heading “§ 4.14.1 Definitions.” should read “§ 4.1 Definitions.”.

3. On page 60617, in the first column, section heading “§ 4.24.2 Territorial extent.” should read “§ 4.2 Territorial extent.”.

4. On the same page, in the same column, section heading “§ 4.34.3 General requirements and prohibitions under the FAA Act.” should read “§ 4.3 General requirements and prohibitions under the FAA Act.”.

5. On the same page, in the third column, section heading “§ 4.44.4 [Reserved]” should read “§ 4.4 [Reserved]”.

6. On the same page, in the same column, section heading “§ 4.54.5 Wines covered by this part.” should read “§ 4.5 Wines covered by this part.”.

7. On the same page, in the same column, section heading “§ 4.64.6 Products produced as wine that are not covered by this part.” should read “§ 4.6 Products produced as wine that are not covered by this part.”.

8. On the same page, in the same column, section heading “§ 4.74.7 Other TTB labeling regulations that apply to wine.” should read “§ 4.7 Other TTB labeling regulations that apply to wine.”.

9. On page 60618, in the first column, section heading “§ 4.84.8 Wine for export.” should read “§ 4.8 Wine for export.”.

10. On the same page, in the same column, section heading “§ 4.94.9 Compliance with Federal and State requirements.” should read “§ 4.9 Compliance with Federal and State requirements.”.

11. On page 60645, in the first column, section heading “§ 5.05.0 Scope.” should read “§ 5.0 Scope.”.

12. On the same page, in the second column, section heading “§ 5.15.1 Definitions.” should read “§ 5.1 Definitions.”.

13. On page 60646, in the first column, section heading “§ 5.25.2 Territorial extent.” should read “§ 5.2 Territorial extent.”.

14. On the same page, in the same column, section heading “§ 5.35.3 General requirements and prohibitions under the FAA Act.” should read “§ 5.3 General requirements and prohibitions under the FAA Act.”.

15. On the same page, in the second column, section heading “§ § 5.4§ 5.4-5.6 [Reserved]” should read “§§ 5.4-5.6 [Reserved]”.

16. On the same page, in the same column, section heading “§ 5.75.7 Other TTB labeling regulations that apply to distilled spirits.” should read “§ 5.7 Other TTB labeling regulations that apply to distilled spirits.”.

17. On the same page, in the third column, section heading “§ 5.85.8 Distilled spirits for export.” should read “§ 5.8 Distilled spirits for export.”.

18. On the same page, in the same column, section heading “§ 5.95.9 Compliance with Federal and State requirements.” should read “§ 5.9 Compliance with Federal and State requirements.”.

19. On page 60672, in the second column, section heading “§ 7.07.0 Scope.” should read “§ 7.0 Scope.”.

20. On the same page, in the same column, section heading “§ 7.17.1 Definitions.” should read “§ 7.1 Definitions.”.

21. On page 60673, in the first column, section heading “§ 7.27.2 Territorial extent.” should read “§ 7.2 Territorial extent.”.

22. On the same page, in the same column, section heading “§ 7.37.3 General requirements and prohibitions under the FAA Act.” should read “§ 7.3 General requirements and prohibitions under the FAA Act.”.

23. On the same page, in the second column, section heading “§ 7.47.4 Jurisdictional limits of the FAA Act.” should read “§ 7.4 Jurisdictional limits of the FAA Act.”.

24. On the same page, in the third column, section heading “§ 7.57.5 Ingredients and processes.” should read “§ 7.5 Ingredients and processes.”.

25. On the same page, in the same column, section heading “§ 7.67.6 Brewery products not covered by this part.” should read “§ 7.6 Brewery products not covered by this part.”.

26. On page 60674, in the first column, section heading “§ 7.77.7 Other TTB labeling regulations that apply to malt beverages.” should read “§ 7.7 Other TTB labeling regulations that apply to malt beverages.”.

27. On the same page, in the same column, section heading “§ 7.87.8 Malt beverages for export.” should read “§ 7.8 Malt beverages for export.”.

28. On the same page, in the same column, section heading “§ 7.97.9 Compliance with Federal and State requirements.” should read “§ 7.9 Compliance with Federal and State requirements.”.

29. On page 60688, in the second column, section heading “§ 14.014.0 Applicability.” should read “§ 14.0 Applicability.”.

30. On the same page, in the same column, section heading “§ 14.114.1 Definitions.” should read “§ 14.1 Definitions.”.

31. On page 60689, in the first column, section heading “§ 14.214.2 Territorial extent.” should read “§ 14.2 Territorial extent.”.

32. On the same page, in the same column, section heading “§ 14.314.3 Delegations of the Administrator's authorities.” should read “§ 14.3 Delegations of the Administrator's authorities.”.

33. On the same page, in the second column, section heading “§ 14.414.4 General requirements under the FAA Act.” should read “§ 14.4 General requirements under the FAA Act.”.

34. On the same page, in the third column, section heading “§ 14.514.5 Legibility of mandatory information.” should read “§ 14.5 Legibility of mandatory information.”.

35. On the same page, in the same column, section heading “§ 14.614.6 Mandatory statements.” should read “§ 14.6 Mandatory statements.”.

[FR Doc. C1-2018-24446 Filed 3-27-19; 8:45 am]

BILLING CODE 1301-00-D